DEPARTMENT OF ENERGY

10 CFR Part 430

[EERE-2017-BT-TP-0012]

RIN 1904-AD47

Energy Conservation Program: Test Procedure for Room Air Conditioners

AGENCY: Office of Energy Efficiency and Renewable Energy, Department of Energy.

ACTION: Correcting amendments.

SUMMARY: On March 29, 2021, the U.S. Department of Energy (“DOE”) published a final rule that amended the test procedure for room air conditioners (“room ACs”). This document corrects errors in the amended regulatory text as it appeared in the March 2021 final rule. Neither the errors nor the corrections in this document affect the substance of the rulemaking or any conclusions reached in support of the final rule.

DATES: Effective August 30, 2023.

FOR FURTHER INFORMATION CONTACT:

Mr. Lucas Adin, U.S. Department of Energy, Office of Energy Efficiency and Renewable Energy, Building Technologies Office, EE-5B, 1000 Independence Avenue SW, Washington, DC 20585-0121. Telephone: (202) 287-5904. Email: ApplianceStandardsQuestions@ee.doe.gov.

Ms. Sarah Butler, U.S. Department of Energy, Office of the General Counsel, GC-33, 1000 Independence Avenue SW, Washington, DC 20585-0121. Telephone: (202) 586-1777. Email: sarah.butler@hq.doe.gov.

SUPPLEMENTARY INFORMATION:

I. Background

DOE published a final rule in the Federal Register on March 29, 2021, amending the procedure for room ACs at title 10 of the Code of Federal Regulations (“CFR”), part 430, subpart B, appendix F (“appendix F”). 86 FR 16446. Since publication of the final rule, DOE identified errors in the regulatory text for the room AC test procedure. The first identified error in the regulatory text is in section 4.2.1 of appendix F, which states, “If the unit has an inactive mode, as defined in section 2.14 of this appendix, as defined in section 2.17 of this appendix, measure and record the average inactive mode power, Pia, in watts.” Since the term “inactive mode” is defined in section 2.14, the phrase “as defined in section 2.17” is erroneous and should be removed from that sentence. The second error is in section 5.3.6, in which the term “AECia/om” is defined to mean “annual energy consumption in inactive mode of off mode, in kWh/year, determined in section 5.1 of this appendix.” Section 5.1 correctly defines “AECia/om” as annual energy consumption in inactive mode and off mode. Thus, the definition in section 5.3.6 should read “annual energy consumption in inactive mode and off mode, in kWh/year, determined in section 5.1 of this appendix.” Similarly, the definition for “AECia/om” in sections 5.2.2 and 5.3.7 should also read “annual energy consumption in inactive mode and off mode, in kWh/year, determined in section 5.1 of this appendix.”

II. Need for Correction

As published, the regulatory text in the March 2021 final rule may result in confusion as to the meaning of these terms and the references to provisions elsewhere in the test procedure. Because this final rule would simply correct errors in the text without making substantive changes in the March 2021 final rule, the changes addressed in this document are technical in nature.

III. Procedural Issues and Regulatory Review

DOE has concluded that the determinations made pursuant to the various procedural requirements applicable to the March 2021 final rule remain unchanged for this final rule technical correction. These determinations are set forth in the March 2021 final rule. 86 FR 16446, 16472.

Pursuant to the Administrative Procedure Act, 5 U.S.C. 553(b)(3)(B), DOE finds that there is good cause to not issue a separate notice to solicit public comment on the changes contained in this document. Issuing a separate notice to solicit public comment would be impracticable, unnecessary, and contrary to the public interest. Neither the errors nor the corrections in this document affect the substance of the March 2021 final rule or any of the conclusions reached in support of the final rule. Providing prior notice and an opportunity for public comment on correcting objective, typographical errors that do not change the substance of the test procedure serves no useful purpose.

Further, this rule correcting a regulatory text error makes non-substantive changes to the test procedure. As such, this rule is not subject to the 30-day delay in effective date requirement of 5 U.S.C. 553(d) otherwise applicable to rules that make substantive changes.

List of Subjects in 10 CFR Part 430

Administrative practice and procedure, Confidential business information, Energy conservation, Household appliances, Imports, Intergovernmental relations, Small businesses.

Signing Authority

This document of the Department of Energy was signed on August 23, 2023, by Francisco Alejandro Moreno, Acting Assistant Secretary for Energy Efficiency and Renewable Energy, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on August 23, 2023.
Treena V. Garrett,
Federal Register Liaison Officer, U.S. Department of Energy.

For the reasons stated in the preamble, DOE corrects part 430 of chapter II, subchapter D, of title 10 of the Code of Federal Regulations by making the following correcting amendments:

PART 430—ENERGY CONSERVATION PROGRAM FOR CONSUMER PRODUCTS

1. The authority citation for part 430 continues to read as follows:

Authority: 42 U.S.C. 6291-6309; 28 U.S.C. 2461 note.

2. Amend Appendix F to subpart B of part 430 by:

a. Revising section 4.2.1;

b. In section 5.2.2, revising the definitions of “AECia/om”;

c. In section 5.3.6, revising the definitions of “AECia/om”; and

d. In section 5.3.7, revising the definitions of “AECia/om”.

The revisions read as follows:

Appendix F to Subpart B of Part 430—Uniform Test Method for Measuring the Energy Consumption of Room Air Conditioners

* * * * *

4. * * *

4.2 * * *

4.2.1 If the unit has an inactive mode, as defined in section 2.14 of this appendix, measure and record the average inactive mode power, Pia, in watts.

* * * * *

5. * * *

5.2 * * *

5.2.2 * * *

AECia/om = annual energy consumption in inactive mode and off mode, in kWh/year, determined in section 5.1 of this appendix.

* * * * *

5.3 * * *

* * * * *

5.3.6 * * *

AECia/om = annual energy consumption in inactive mode and off mode, in kWh/year, determined in section 5.1 of this appendix.

* * * * *

5.3.7 * * *

AECia/om = annual energy consumption in inactive mode and off mode, in kWh/year, determined in section 5.1 of this appendix.

* * * * *

[FR Doc. 2023-18529 Filed 8-29-23; 8:45 am]

BILLING CODE 6450-01-P